DEPARTMENT OF HEALTH AND HUMAN SERVICES

Food and Drug Administration

[Docket No. FDA-2013-N-0001]

Request for Notification From Industry Organizations Interested in Participating in the Selection Process for Nonvoting Industry Representatives; Reopening of Notification Period

AGENCY: Food and Drug Administration, HHS.

ACTION: Notice; reopening of comment period.

SUMMARY: The Food and Drug Administration (FDA) is reopening the period for industry organizations interested in participating in the selection of nonvoting industry representatives to represent the interests of the pharmaceutical manufacturing industry and the pharmacy compounding industry on the Pharmacy Compounding Advisory Committee for the Center for Drug Evaluation and Research to notify FDA of such interest. FDA announced a request for notification of interest in selection of industry representatives and for nominations in the Federal Register on January 13, 2014. This notice requested industry organizations that were interested in participation in the selection process to notify FDA in writing by February 12, 2014, and stated that nominations would be accepted for the two nonvoting vacancies by the same date. Industry organizations that did not notify FDA by the deadline of their interest in participating in the selection of nonvoting pharmacy compounding and pharmaceutical manufacturing industry representatives have now expressed interest in participating. Therefore, FDA is reopening the notification period for an additional two weeks so that any interested industry organizations wanting to participate can notify the Agency of their interest.

DATES: Any industry organization interested in participating in the selection of appropriate nonvoting members to represent the interests of the pharmacy compounding industry and the pharmaceutical manufacturing industry on the Pharmacy Compounding Advisory Committee should send a letter stating the interest to FDA by May 5, 2014, for the vacancies announced in the Federal Register on January 13, 2014 (79 FR 2177).

ADDRESSES: All letters of interest should be submitted electronically to PCAC@fda.hhs.govmailto:, or in writing by mail to Jayne E. Peterson, Center for Drug Evaluation and Research, Food and Drug Administration, 10903 New Hampshire Avenue, Bldg. 31, Rm. 2417, Silver Spring, MD 20993.

FOR FURTHER INFORMATION CONTACT: Jayne E. Peterson, Center for Drug Evaluation and Research, Food and Drug Administration, 10903 New Hampshire Ave., Bldg. 31, Rm. 2417, Silver Spring, MD 20993, 301-796-9001, FAX: 301-847-8533, email: PCAC@fda.hhs.gov.

This notice is issued under the Federal Advisory Committee Act (5 U.S.C. app. 2) and 21 CFR part 14, relating to advisory committees.

Dated: April 15, 2014.
Leslie Kux,
Assistant Commissioner for Policy.

[FR Doc. 2014-08968 Filed 4-18-14; 8:45 am]

BILLING CODE 4160-01-P